COUNCIL OF THE INSPECTORS GENERAL ON INTEGRITY AND EFFICIENCY

Senior Executive Service Performance Review Board Membership

AGENCY: Council of the Inspectors General on Integrity and Efficiency.

ACTION: Notice.

DATES: Applicable October 1, 2025.

FOR FURTHER INFORMATION CONTACT: Andrew Cannarsa, CIGIE Executive Director, (202) 292-2603. Individual Office of Inspectors General at the telephone numbers listed below.

SUPPLEMENTARY INFORMATION:

I. Background

The Inspector General Act of 1978, as amended, created the Offices of Inspectors General as independent and objective units to conduct and supervise audits and investigations relating to Federal programs and operations. The Inspector General Reform Act of 2008 established the Council of the Inspectors General on Integrity and Efficiency (CIGIE) to address integrity, economy, and effectiveness issues that transcend individual Government agencies; and increase the professionalism and effectiveness of personnel by developing policies, standards, and approaches to aid in the establishment of a well-trained and highly skilled workforce in the Offices of Inspectors General. CIGIE is an interagency council whose executive chair is the Deputy Director for Management, Office of Management and Budget, and is comprised principally of the 70 Inspectors General (IGs).

II. CIGIE Performance Review Board

Under 5 U.S.C. 4314(c)(1)-(5), and in accordance with regulations prescribed by the Office of Personnel Management, each agency is required to establish one or more Senior Executive Service (SES) performance review boards. The purpose of these boards is to review and evaluate the initial appraisal of a senior executive's performance by the supervisor, along with any recommendations to the appointing authority relative to the performance of the senior executive. The current members of the Council of the Inspectors General on Integrity and Efficiency Performance Review Board, as of October 1, 2025, are as follows:

Agency for International Development, Phone Number: (202) 258-7460, CIGIE Liaison—Judy McLaughin, (202) 258-7460, jmclaughlin@oig.usaid.gov

• Gabriele Tonsil—Acting Assistant Inspector General for Audits, Inspections, and Evaluations

• Khadija Walker—Deputy Assistant Inspector General for Audit

• Derek Santos—General Counsel

Department of Agriculture, Phone Number: (202) 720-8001, CIGIE Liaison—Angel N. Bethea (202) 720-8001, angel.bethea@oig.usda.gov

• Janet Sorensen—Acting Inspector General

• Peter Sima-Eichler—Acting Deputy Inspector General

• Christy Slamowitz—Counsel to the Inspector General

• Mily Le—Assistant Inspector General for Management

• Yarisis Rivera Rojas—Acting Assistant Inspector General for Audit

• Nicole Gardner—Assistant Inspector General for Investigations

• Justin Fielder—Deputy Assistant Inspector General for Investigations

Department of Commerce, Phone Number: (202) 480-5164, CIGIE Liaison—Teresa Hardy (301) 486-3142, thardy@oig.doc.gov

• Roderick M. Anderson—Deputy Inspector General

• Eric Maddox—Assistant Inspector General for Investigations

• Arthur Scott—Assistant Inspector General for Audit and Evaluation

• Richard Bachman—Deputy Assistant Inspector General for Audit and Evaluation

• Rob Johnston—Counsel to the Inspector General

Council of the Inspectors General on Integrity and Efficiency, Phone Number: (202) 292-2600, CIGIE Liaison—Zeina Aboumrad (202) 253-4728, zeina.aboumrad@cigie.gov

• Andrew Cannarsa—Executive Director

Department of Defense, Phone Number: (703) 604-8324, CIGIE Liaison—Darcell E. Wilder (703) 699-7495, darcell.wilder@dodig.mil

• Jaryd M. Bern—Assistant Inspector General for Legislative Affairs & Communications

• Bryan T. Clark—Assistant Inspector General for Evaluations (Program, COCOM, and OCO Operations)

• David A. Core—Principal Deputy General Counsel

• Ogochukwu A. Ekwuabu—Assistant Inspector General for Strategic Planning and Performance

• Leo J. FitzHarris—Deputy Inspector General for Mission Support

• Grant A. Fleming—Assistant Inspector General for Investigations (Operations)

• James R. Ives—Principal Assistant Inspector General for Investigations

• Carmen J. Malone—Assistant Inspector General for Audit (Readiness and Cyber Operations)

• Brett A. Mansfield—Deputy Inspector General for Audit

• Kelly P. Mayo—Deputy Inspector General for Investigations

• Troy M. Meyer—Deputy Inspector General for Overseas Contingency Operations

• Harris S. Quddos—Chief Information Officer

• Michael J. Roark—Deputy Inspector General for Evaluations

• Gregory P. Shilling—Assistant Inspector General for Investigations (Internal Operations)

• Janet L. Stallings—Principal Assistant Inspector General for Audit

• Steven A. Stebbins—Principal Deputy Inspector General

• Randolph R. Stone—Assistant Inspector General for Evaluations (Space, Intelligence, Engineering and Oversight)

• Richard B. Vasquez—Assistant Inspector General for Audit (Readiness and Global Operations)

• Lorin T. Venable—Assistant Inspector General for Audit (Financial Management and Reporting)

• Willie L. Young—Principal Assistant Inspector General for Mission Support

Department of Education, Phone Number: (202) 245-6900, CIGIE Liaison—Theresa Perolini (202) 987-0174, Theresa.Perolini@ed.gov

• Heidi Semann—Acting Inspector General

• René Rocque—Deputy Inspector General

• Jason Williams—Assistant Inspector General for Investigations

• Terry Harris—Deputy Assistant Inspector General for Investigations

• Antigone Potamianos—Counsel to the Inspector General

• Takiyah Golden—Assistant Inspector General for Management Services

• Theresa Perolini—Assistant Inspector General for Enterprise and External Affairs

Department of Energy, Phone Number: (202) 586-4073, CIGIE Liaison—Ryan Cocolin (202) 586-8672, Ryan.Cocolin@hq.doe.gov

• Lewe Sessions—Assistant Inspector General for Investigations

• Matthew Dove—Assistant Inspector General for Audits

• Deborah Thomas—Deputy Assistant Inspector General Audits

Environmental Protection Agency, Phone Number: (202) 250-8800, CIGIE Liaison—Jee Kim (202) 566-1429, kim.jee@epa.gov

• Nicole Murley—Deputy Inspector General

• Stephanie Wright—Assistant Inspector General for Information Technology

• Erica Kavanagh—Associate Deputy Inspector General

• Mary Katherine Trimble—Assistant Inspector General for Audit

• Paul Bergstrand—Assistant Inspector General for Special Review and Evaluation

Federal Communications Commission, Phone Number: (202) 418-0470, CIGIE Liaison—Fara Damelin (202) 418-1522, fara.damelin@fcc.gov

• Travis J. Farris—Counsel to the Inspector General

Federal Labor Relations Authority, Phone Number: (771) 444-5712, CIGIE Liaison—Dana Rooney (771) 444-5713, drooney@flra.gov

• Dana Rooney—Inspector General

Federal Maritime Commission, Phone Number: (202) 523-5863, CIGIE Liaison—Jon Hatfield (202) 523-5863, jhatfield@fmc.gov

• Jon Hatfield—Inspector General

Federal Trade Commission, Phone Number: (202) 326-3527, CIGIE Liaison—Marissa Gould (202) 326-5207, mgould1@ftc.gov

• Marissa Gould—Acting Inspector General; Deputy Inspector General

General Services Administration, Phone Number: (202) 501-0450, CIGIE Liaison—Sarah Breen (202) 273-7284, sarah.breen@gsaig.gov

• Robert C. Erickson, Jr.—Deputy Inspector General

• Edward J. Martin—Associate Inspector General

• Jason M. Suffredini—Assistant Inspector General for Investigations

• R. Nicholas Goco—Assistant Inspector General for Auditing

• Barbara E. Bouldin—Deputy Assistant Inspector General for Acquisition Program Audits

• Brian J. Gibson—Deputy Assistant Inspector General for Real Property Audits

• Kristine M. Preece—Assistant Inspector General for Administration

• Christopher Pehrson—Counsel of the Inspector General

Department of Health and Human Services, Phone Number: (202) 619-3148, CIGIE Liaison—Steven Driscoll (202) 860-4777, Steven.Driscoll@oig.hhs.gov

• Juliet Hodgkins—Acting Inspector General/Principal Deputy Inspector General

• Megan Tinker—Deputy Inspector General for Immediate Office/Chief of Staff

• Robert Owens, Jr.—Deputy Inspector General for Management and Policy

• Christian Schrank—Deputy Inspector General for Investigations

• Ann Maxwell—Deputy Inspector General for Evaluation and Inspections

• Susan Edwards—Assistant Inspector General for Legal Affairs

• Susan Gillin—Assistant Inspector General for Legal Affairs

• Carla Lewis—Assistant Inspector General for Audit Services

• John Hagg—Assistant Inspector General for Audit Services

• Lucia Fort—Assistant Inspector General for Audit Services

• Brenda Tierney—Assistant Inspector General for Audit Services

• Tamara Lilly—Assistant Inspector General for Audit Services (Cybersecurity and IT Audits)

• Maria Thompson—Assistant Inspector General for Information Technology

• Kaitlin Devine—Assistant Inspector General/Chief Data Officer

• Adam Globerman—Assistant Inspector General for Investigations

• Derrick Franklin—Assistant Inspector General for Investigations

• Miranda Bennett—Assistant Inspector General for Investigations

• Scott Lampert—Assistant Inspector General for Investigations

• Erin Bliss—Assistant Inspector General for Evaluation and Inspections

• Melicia Seay—Assistant Inspector General for Evaluation and Inspections

• Ruth Dorrill—Assistant Inspector General for Evaluation and Inspections

Department of Homeland Security, Phone Number: (202) 981-6000, CIGIE Liaison—Sandra Pleasants, (202) 391-8244, sandra.pleasants@oig.dhs.gov

• Justin Abold-LaBreche—Deputy Inspector General of Office of Management

• Thomas Kait—Deputy Inspector General for Inspections and Evaluations

• Dustin Razsi—Deputy Inspector General and Chief of Staff

• Glenn Sklar—Principal Deputy Inspector General

• James Read—Counsel to the Inspector General

Department of Housing and Urban Development, Phone Number: (202) 875-9952, CIGIE Liaison—Kudakwashe Ushe (202) 875-9952, kushe@hudoig.gov

• Kudakwashe Ushe—Assistant Inspector General for Operations

• Kilah White—Assistant Inspector General for Audit

• Audra Dortch—Assistant Inspector General for Investigations

• Sarah Sequeira—Deputy Assistant for Audit

• Toccaro Greene—Chief Information Officer

• Nicholas Acker—Assistant Inspector General for Special Inquiry

International Development Finance Corporation, Phone Number: (202) 361-8609, CIGIE Liaison—Naga Jujjavarapu (202) 948-4128, njujjavarapu@dfc.gov

• Naga Jujjavarapu—Deputy Inspector General & General Counsel (SL)

Department of the Interior, Phone Number: (202) 208-5745, CIGIE Liaison—Karen Edwards (202) 208-5635, karen_edwards@doioig.gov

• Matthew Elliott—Assistant Inspector General for Investigations

• Deborah Raviv—Deputy Assistant Inspector General for Investigations

• Jorge Christian—Assistant Inspector General for Management

• Justin Martell—General Counsel

• Michael O'Rourke—Assistant Inspector General for Strategy

• Nicole Miller—Assistant Inspector General for Audits, Inspections & Evaluations

• Melanie Sorenson—Deputy Assistant Inspector General for Audits

• Jill Baisinger—Chief of Staff

Department of Justice, Phone Number: (202) 514-3435, CIGIE Liaison—John Lavinsky (202) 514-3435, john.s.lavinsky@usdoj.gov

• William M. Blier—Deputy Inspector General

• Michael Sean O'Neill—Assistant Inspector General for Oversight and Review

• Jason R. Malmstron—Assistant Inspector General for Audit

• Carol S. Taraszka—Deputy Assistant Inspector General for Audit

• Kevin M. Strug—Deputy Assistant Inspector General for Audit, Office of Data Analytics

• Sarah E. Lake—Assistant Inspector General for Investigations

• Sandra D. Barnes—Deputy Assistant Inspector General for Investigations

• Allison E. Russo—Assistant Inspector General for Evaluation and Inspections

• Michael E. Pannone—Deputy Assistant Inspector General for Evaluation and Inspections

• Mark L. Hayes—Assistant Inspector General for Management and Planning

• Nancy House—Deputy Assistant Inspector General for Management and Planning

Department of Labor, Phone Number: (202) 693-5100, CIGIE Liaison—Erin Zickafoose (202) 693-7062, Zickafoose.erin@oig.dol.gov

• Laura Nicolosi—Deputy Assistant Inspector General for Audit

• Michael C. Mikulka—Assistant Inspector General for Investigations—Labor Racketeering and Fraud

• Christopher T. Cooper—Deputy Assistant Inspector General for Investigations—Labor Racketeering and Fraud

• Jessica Southwell—Chief Performance and Risk Management Officer

National Aeronautics and Space Administration, Phone Number: (202) 358-1220, CIGIE Liaison—Kate Sheehey (202) 358-1220, hq-oig-management@mail.nasa.gov

• Robert (Bob) Steinau—Assistant Inspector General for Investigations

• Francis (Frank) LaRocca—Counsel to the Inspector General

• Kathryn (Kate) Sheehey—Assistant Inspector General for Management

National Science Foundation, Phone Number: (703) 292-7100, CIGIE Liaison—Lisa Vonder Haar (703) 292-2989, lvonderh@nsf.gov

• Megan Wallace—Acting IG/Assistant Inspector General for Investigations

• Theresa Hull—Assistant Inspector General for Audits

• Javiar Inclan—Assistant Inspector General for Management

• Catherine DelPrete—Counsel to the Inspector General

Nuclear Regulatory Commission and Defense Nuclear Facilities Safety Board, Phone Number: (301) 415-5930, CIGIE Liaison—Christine Arroyo (301) 415-0526, christine.arroyo@nrc.gov

• Ziad Buhaissi—Deputy Inspector General

• Hruta Vikar—Assistant Inspector General for Audits and Evaluations

• Malion Bartley—Assistant Inspector General for Investigations

Office of Personnel Management, Phone Number: (202) 606-1200, CIGIE Liaison—Caprice Miller (202) 606-2063, caprice.miller@opm.gov

• Norbert E. Vint—Deputy Inspector General Performing the Duties of the Inspector General

• Michael R. Esser—Assistant Inspector General for Audits

• Drew M. Grimm—Assistant Inspector General for Investigations

• Faiza Mathon-Mathieu—Assistant Inspector General, Office of Legal & Legislative Affairs

• Nicholas E. Hoyle—Assistant Inspector General, Office of Management

• Monyca W. Peyton—Deputy Assistant Inspector General, Office of Management

• Robin A. Thottungal—Deputy Assistant Inspector General Chief Information Officer, Office of Management

United States Postal Service, Phone Number: (703) 248-2100, CIGIE Liaison—Agapi Doulaveris (703) 248-2286, adoulaveris@uspsoig.gov

• Julius Rothstein—Deputy Inspector General/Attorney

• Robert Kwalwasser—Assistant Inspector General for Investigations

Railroad Retirement Board, Phone Number: (312) 751-4690, CIGIE Liaison—Endea Murry, (312) 751-4334, endea.murry@oig.rrb.gov

• Shanon E. Holman—Assistant Inspector General for Audit/Principal Deputy Performing the Duties of the Inspector General

• Patricia Marshall—General Counsel

Small Business Administration, Phone Number: (202) 205-6586, CIGIE Liaison—LaShaun Curry (202) 205-7367, lashaun.curry@sba.gov

• Sheldon Shoemaker—Deputy Inspector General

• Shafee Carnegie—Assistant Inspector General for Investigations

• Andrea Deadwyler—Assistant Inspector General for Audits

• Lucine Willis—Deputy Assistant Inspector General for Audits

• Francine Hines—Assistant Inspector General, Management and Operations Division

Social Security Administration, Phone Number: (410) 966-8385, CIGIE Liaison—Craig Meklir, (443) 316-7922, craig.meklir@ssa.gov

• Michelle L. Anderson—Assistant Inspector General for Audit

• Jeffrey Brown—Deputy Assistant Inspector General for Audit

• B. Chad Bungard—Chief of Government Relations

• Joscelyn Funnié—Assistant Inspector General for Information Technology

• Kevin Huse—Deputy Assistant Inspector General for Investigations

• Donald Jefferson—Assistant Inspector General for Investigations

• Adriana Menchaca-Gendron—Assistant Inspector General for Resource Management

• Michelle M. Murray—Chief Counsel to the Inspector General

• Ted Planzos—Chief Investigative Counsel

• Adam Schneider—Deputy Assistant Inspector General for Investigations

Department of State, Phone Number: 571-348-0200, CIGIE Liaison—Tyler Lopez, (571) 348-5491, james.t.lopez@stateoig.gov

• Arne Baker—Inspector General (Acting)

• Norman P. Brown—Deputy Inspector General (Acting)

• Beverly J. Charlton—Deputy Assistant Inspector General for Audits (Acting)

• Andrew S. Chiu—Assistant Inspector General for Management

• Molly Hines—Deputy Assistant Inspector General for Management

• Jason T. Loeffler—Deputy Assistant Inspector General for Investigations

• Nicole S. Matthis—Chief of Staff

• Jeffrey D. McDermott—Assistant Inspector General for Whistleblower Integrity and Special Projects

• Ryan McGonagle—Deputy Assistant Inspector General for Inspections

• Lisa R. Rodely—Assistant Inspector General for Inspections (Acting)

• Robert J. Smolich—Assistant Inspector General for Investigations

• Gayle L. Voshell—Assistant Inspector General for Audits

• Kevin J. Young—Deputy Assistant Inspector General for Technology

• Michael C. Zola—General Counsel

Department of Transportation, Phone Number: (202) 366-1959, CIGIE Liaison—Nathan P. Richmond, (202) 493-0422, Nathan.Richmond@oig.dot.gov

• Mitchell (Mitch) Behm—Deputy Inspector General

• Andrea Nossaman—Assistant Inspector General for Strategic Communications and Programs

• Elise Chawaga—Principal Assistant Inspector General for Investigations

• Justin Bidwell—Deputy Assistant Inspector General for Investigations

• Charles A. (Chuck) Ward—Principal Assistant Inspector General for Auditing and Evaluation

• Nelda Smith—Assistant Inspector General for Aviation Audits

• Dormayne Dillard-Christian—Assistant Inspector General for Financial Audits

• Tiffany Mostert—Assistant Inspector General for Audit Operations and Special Reviews

Department of the Treasury, Phone Number: (202) 927-0650, CIGIE Liaison—Javan Wilson, (202) 927-6433, wilsonj@oig.treas.gov

• Pauletta Battle—Acting Assistant Inspector General for Audit

• Jeffrey Lawrence—Assistant Inspector General for Management

• Loren Sciurba—Deputy Inspector General

Treasury Inspector General for Tax Administration/Department of the Treasury, Phone Number: (443) 853-5660, CIGIE Liaison—Erika Jaskolski, (502) 537-5154, erika.jaskolski@tigta.treas.gov

• Heather Hill—Principal Deputy Inspector General

• Deann Baiza—Assistant Inspector General Audit, Management Planning and Workforce Development

• Lori Creswell—Deputy Chief Counsel

• Gladys Hernandez—Chief Counsel

• John Kirk—a Deputy Inspector General for Investigations

• Nancy LaManna—Deputy Inspector General for Inspections and Evaluations

• Diana Tengesdal—Assistant Inspector General for Audit, Returns Processing and Accounting Services

• Richard Varn II—Chief Information Officer

• Matthew Weir—Assistant Inspector General for Audit, Compliance and Enforcement

• Tyler Yetter—Assistant Inspector General for Investigations—Investigative Operations

Department of Veterans Affairs, Phone Number: (202) 264-9376, CIGIE Liaison—Kiyana Bonner, (202) 309-3599, kiyana.bonner@va.gov

• Leigh Ann Searight—Deputy Assistant Inspector General for Audits and Evaluations

Andrew Cannarsa,
Executive Director.

[FR Doc. 2025-21587 Filed 11-28-25; 8:45 am]

BILLING CODE 6820-C9-P